ENVIRONMENTAL PROTECTION AGENCY

[FRL-9916-38-Region-2]

Proposed Settlement Pursuant Sections 106 and 122 of CERCLA Relating to the Gowanus Canal Superfund Site, Brooklyn, Kings County, New York

AGENCY: Environmental Protection Agency.

ACTION: Notice; request for public comment.

SUMMARY: In accordance with Section 122(i) of the Comprehensive Environmental Response, Compensation, and Liability Act of 1980, as amended (“CERCLA”), notice is hereby given by the U.S. Environmental Protection Agency (“EPA”), Region 2, of two proposed settlement agreements pursuant to Sections 106 and 122 of CERCLA, for Removal Action by Bona Fide Prospective Purchaser (“Settlement Agreements”), entered into by and between EPA, Region 2, LSG 363 Bond Street LLC and LSG 365 Bond Street LLC (“Purchasers”) (collectively, the “Parties”) under CERCLA. Under the Settlement Agreements, the Purchasers agree to perform a removal action and pay certain response costs in connection with the Gowanus Canal Superfund Site (“Site”) located in Brooklyn, Kings County, New York and properties located at 388 Carroll Street, 363 Bond Street, and 365 Bond Street, Brooklyn, New York (collectively, the “Properties”).

The Settlement Agreements include a covenant by EPA not to sue or to take administrative action against the Purchasers pursuant to Sections 106 and 107 of CERCLA, with regard to the Existing Contamination, as defined in the Settlement Agreements. For thirty (30) days following the date of publication of this notice, EPA will receive written comments relating to the Settlement Agreements. EPA will consider all comments received and may modify or withdraw its consent to the Settlement Agreements if comments received disclose facts or considerations that indicate that the proposed Settlement Agreements are inappropriate, improper or inadequate. EPA's response to any comments received will be available for public inspection at EPA Region 2 offices, 290 Broadway, New York, New York 10007-1866.

DATES: Comments must be submitted on or before October 8, 2014.

ADDRESSES: The proposed Settlement Agreements can be viewed at http://www.epa.gov/region02/superfund/npl/gowanus/additionaldocs.html. They are also available for public inspection at EPA Region 2 offices at 290 Broadway, New York, New York 10007-1866. A copy may also be obtained from Brian Carr, Assistant Regional Counsel, New York/Caribbean Superfund Branch, Office of Regional Counsel, U.S. EPA Region 2, 290 Broadway—17th Floor, New York, New York 10007-1866, 212-637-3170, carr.brian@epa.gov. Comments should reference the Gowanus Canal Superfund Site, Brooklyn, New York., Index Nos. CERCLA-02-2014-2004 and CERCLA-02-2014-2008, and should be sent by mail or email to Brian Carr, Assistant Regional Counsel, at the address or email address above.

FOR FURTHER INFORMATION CONTACT: Brian Carr, Assistant Regional Counsel, at the address, email or telephone number stated above.

Dated: August 26, 2014.
John E. LaPadula,
Acting Director, Emergency and Remedial Response Division, U.S. Environmental Protection Agency, Region 2.

[FR Doc. 2014-21291 Filed 9-5-14; 8:45 am]

BILLING CODE 6560-50-P